FEDERAL DEPOSIT INSURANCE CORPORATION

Agency Information Collection Activities: Proposed New Information Collection; Visitor Notification; Comment Request (OMB No. 3064-NEW)

AGENCY: Federal Deposit Insurance Corporation (FDIC).

ACTION: Notice and request for comment.

SUMMARY: The FDIC, as part of its obligations under the Paperwork Reduction Act of 1995 (PRA), invites the general public and other Federal agencies to take this opportunity to comment on the Visitor Notification form, which the FDIC intends to use to collect biographical, passport (for foreign nationals), and employment information from certain visitors to the FDIC in order to assess the risk to FDIC facilities and personnel. The FDIC will require certain visitors to FDIC facilities to complete and submit the form. FDIC is seeking a new OMB Control Number for this information collection.

DATES: Comments must be submitted on or before May 6, 2024.

ADDRESSES: Interested parties are invited to submit written comments to the FDIC by any of the following methods:

• http://www.FDIC.gov/regulations/laws/federal/notices.html.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street Building (located on F Street), on business days between 7 a.m. and 5 p.m.

All comments should refer to “Visitor Notification Form”. A copy of the comments may also be submitted to the OMB desk officer for the FDIC: Office of Information and Regulatory Affairs, Office of Management and Budget, New Executive Office Building, Washington, DC 20503.

FOR FURTHER INFORMATION CONTACT: Manny Cabeza, Regulatory Counsel, (202) 898-3767, mcabeza@fdic.gov, MB-3128, Federal Deposit Insurance Corporation, 550 17th Street NW, Washington, DC 20429.

SUPPLEMENTARY INFORMATION: The FDIC is requesting OMB approval for the following collection of information:

Title: Visitor Notification Form.

OMB Number: 3064-NEW.

Frequency of Response: On Occasion.

Affected Public: Individuals intending to enter FDIC facilities.

Estimated Annual Burden:

Table 1—Summary of Estimated Annual Burden
[OMB No. 3064-NEW]
Information collection (IC) (obligation to respond) | Type of burden (frequency of response) | Number of respondents | Number of responses per respondent | Time per response (HH:MM) | Annual burden (hours)
1. Visitor Notification form (Mandatory) | Recordkeeping (Annual) | 598 | 1.087 | 00:15 | 163
Total Annual Burden (Hours) |  |  |  |  | 163
Source: FDIC.
Note: The estimated annual IC time burden is the product, rounded to the nearest hour, of the estimated annual number of responses and the estimated time per response for a given IC. The estimated annual number of responses is the product, rounded to the nearest whole number, of the estimated annual number of respondents and the estimated annual number of responses per respondent. This methodology ensures the estimated annual burdens in the table are consistent with the values recorded in OMB's consolidated information system.

General Description of Collection: The FDIC proposes to use the Visitor Notification form to collect biographical, passport (for foreign nationals), and employment information from certain ¹ visitors to the FDIC in order to assess the risk to FDIC facilities and personnel. The FDIC will require certain visitors to FDIC facilities, including support staff and interpreters, to complete and submit the form. Interested members of the public may obtain a copy of the proposed Visitor Notification form at the following web page: https://www.fdic.gov/resources/regulations/federal-register-publications/2024/visitor-notification-form.pdf.

¹ Excluding U.S. Government, state, local, tribal or territorial employees and those who hold a national security clearance.

Request for Comment

Comments are invited on: (a) Whether the collection of information is necessary for the proper performance of the FDIC's functions, including whether the information has practical utility; (b) the accuracy of the estimates of the burden of the information collections, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on February 29, 2024.
James P. Sheesley,
Assistant Executive Secretary.

[FR Doc. 2024-04625 Filed 3-4-24; 8:45 am]

BILLING CODE 6714-01-P